DEPARTMENT OF AGRICULTURE

Submission for OMB Review; Comment Request

September 21, 2017.

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 27, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Health Monitoring System; Emergency Epidemiologic Investigations.

OMB Control Number: 0579-0376.

Summary of Collection: Collection and dissemination of animal health data and information is mandated by 7 U.S.C. 391, the Animal Industry Act of 1884, which established the precursor of the Animal and Plant Health Inspection Service (APHIS), Veterinary Services, the Bureau of Animal Industry. Legal requirements for examining and reporting on animal disease control methods were further mandated by 7 U.S.C. 8308, 8314 of the Animal Health Protection Act, “Detection, Control, and Eradication of Disease and Pests,” May 13, 2002. Emergency epidemiologic investigations will allow Veterinary Services Officials to rapidly implement prevention and control measures, keep the public informed, and keep international markets open.

Need and Use of the Information: The primary objective of the National Animal Health Monitoring System's emergency epidemiologic investigations are to provide for the prevention and control of animal disease and protect the U.S. livestock and poultry populations from the introduction and spread of domestic, emerging, zoonotic, and foreign animal disease. APHIS will collect information using a questionnaire, telephone interview, or direct interview. APHIS will use the data collected to: (1) Identify the scope of the problem (2) Define and describe the affected population and the susceptible population; (3) Predict or detect trends in disease occurrence and movement; (4) Understand the risk factors for disease; (5) Estimate the cost of disease control and develop intervention options; (6) Make recommendations for disease control; (7) Provide parameters for animal disease spread models; (8) Provide lessons learned and guidance on the best ways to avoid future outbreaks based on thorough analysis of data from current outbreak(s); and (9) Identify areas for further research e.g. mechanisms of disease transfer, vaccine technology, and diagnostic testing needs.

Description of Respondents: Private Sector; State, Local, and Tribal Governments; and Individuals or Households.

Number of Respondents: 8,000.

Frequency of Responses: Reporting: On occasion.

Total Burden Hours: 5,798.

Ruth Brown,
Departmental Information Collection Clearance Officer.

[FR Doc. 2017-20619 Filed 9-26-17; 8:45 am]

BILLING CODE 3410-34-P